DEPARTMENT OF TRANSPORTATION

Surface Transportation Board

[STB Finance Docket No. 33970]

Minnesota Southern Railway, Inc.—Lease and Operation Exemption—Buffalo Ridge Regional Rail Authority

Minnesota Southern Railway, Inc. (MSWY), a Class III rail carrier, has filed a notice of exemption under 49 CFR 1150.41 to lease and operate approximately 41.44 miles of rail line owned and operated by Buffalo Ridge Regional Rail Authority (BRRA) between milepost 0.0, at Agate, MN, and milepost 41.44, at Manley, MN.¹ MSWY states that BRRA has agreed to lease its rail line to MSWY in order to provide continuous rail service to shippers located along the rail line. MSWY certifies that its projected revenues as a result of this transaction will not result in the creation of a Class II or Class I rail carrier.

¹ See Buffalo Ridge Regional Railroad Authority—Operation Exemption—Rail Lines Between Manley and Worthington, MN, STB Finance Docket No. 33925 (STB served Sept. 22, 2000).

The earliest the transaction can be consummated is December 11, 2000, the effective date of the exemption (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 33970, must be filed with the Surface Transportation Board, Office of the Secretary, Case Control Unit, 1925 K Street, NW., Washington, DC 20423-0001. In addition, one copy of each pleading must be served on Brent A. Polanchek, P.O. Box 562, Luverne, MN 56156.

Board decisions and notices are available on our website at http://WWW.STB.DOT.GOV.

Decided: December 8, 2000.
By the Board, David M. Konschnik, Director, Office of Proceedings.
Vernon A. Williams,
Secretary.

[FR Doc. 00-32013 Filed 12-18-00; 8:45 am]

BILLING CODE 4915-00-P